DEPARTMENT OF COMMERCE

International Trade Administration

[A-533-871]

Finished Carbon Steel Flanges From India: Final Results of Antidumping Duty Administrative Review and Final Determination of No Shipments; 2018-2019

AGENCY: Enforcement and Compliance, International Trade Administration, Department of Commerce.

SUMMARY: The Department of Commerce (Commerce) determines that producers and/or exporters subject to this administrative review did not make sales of finished carbon steel flanges from India at prices below normal value during the period of review (POR), August 1, 2018, through July 31, 2019. In addition, Commerce determines that Silbo Industries, Inc. (Silbo) had no shipments during the POR.

DATES: Applicable June 24, 2021.

FOR FURTHER INFORMATION CONTACT: Fred Baker, George McMahon, or Margaret Collins, AD/CVD Operations, Office VI, Enforcement and Compliance, International Trade Administration, U.S. Department of Commerce, 1401 Constitution Avenue NW, Washington, DC 20230; telephone: (202) 482-2924, (202) 482-1167, or (202) 482-6250, respectively.

SUPPLEMENTARY INFORMATION:

Background

On December 21, 2020, Commerce published the Preliminary Results of this administrative review and invited interested parties to comment.¹ This administrative review covers 41 producers and/or exporters of the subject merchandise. Commerce selected R.N. Gupta & Co. Ltd. (Gupta) and Norma (India) Limited (the Norma Group) for individual examination. The producers/exporters not selected for individual examination are listed in the “Final Results of the Review” section of this notice.²

¹ See Finished Carbon Steel Flanges from India: Preliminary Results of Antidumping Duty Administrative Review and Preliminary Determination of No Shipments; 2018-2019, 85 FR 83051 (December 21, 2020) (Preliminary Results), and accompanying Preliminary Decision Memorandum (PDM).

² See Initiation of Antidumping and Countervailing Duty Administrative Reviews, 84 FR 53411 (October 7, 2019) (Initiation Notice).

On January 21, 2021, the Norma Group submitted its case brief.³ On the same day, Weldbend Corporation and Boltex Manufacturing Co., L.P. (collectively, the petitioners), submitted a case brief related to Gupta.⁴ On January 27, 2021, the petitioners and Gupta submitted rebuttal briefs.⁵ No other party submitted case or rebuttal briefs.

³ See Norma's Letter, “Finished Carbon Steel Flanges from India: Norma's Comments on the Preliminary Results,” dated January 21, 2021.

⁴ See Petitioners' Letter, “Finished Carbon Steel Flanges from India: Case Brief—Weldbend Corporation and Boltex Manufacturing Co., L.P.,” dated January 21, 2021.

⁵ See Petitioners' Rebuttal Brief, “Finished Carbon Steel Flanges from India: Petitioners' Rebuttal Brief,” dated January 27, 2021; see also Gupta's Rebuttal Brief, “Finished Carbon Steel Flanges from India: Rebuttal Brief of R.N. Gupta & Company Limited,” dated December 9, 2019.

On March 30, 2021, we extended the deadline for these final results, until June 18, 2021.⁶ Commerce conducted this administrative review in accordance with section 751 of the Tariff Act of 1930, as amended (the Act).

⁶ See Memorandum, “Finished Carbon Steel Flanges from India: Extension of Deadline for Final Results of Antidumping Duty Administrative Review,” dated March 30, 2021.

Scope of the Order 7

⁷ See Finished Carbon Steel Flanges from India and Italy: Antidumping Duty Orders, 82 FR 40136 (August 24, 2017) (Order).

The scope of the Order covers finished carbon steel flanges. Finished carbon steel flanges are currently classified under subheadings 7307.91.5010 and 7307.91.5050 of the Harmonized Tariff Schedule of the United States (HTSUS). They may also be entered under HTSUS subheadings 7307.91.5030 and 7307.91.5070. While HTSUS subheadings are provided for convenience and customs purposes, the written description of the scope of this order is dispositive.

For a full description of the scope of the Order, see the Issues and Decision Memorandum.⁸

⁸ See Memorandum, “Issues and Decisions Memorandum for the Final Results of Administrative Review: Finished Carbon Steel Flanges from India; 2018-2019,” dated concurrently with, and hereby adopted by, this notice (Issues and Decisions Memorandum).

Analysis of Comments Received

All issues raised by the parties in their case and rebuttal briefs are addressed in the Issues and Decision Memorandum. A list of the issues which parties raised, and to which we responded in the Issues and Decision Memorandum, follows in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly on the internet at http://enforcement.trade.gov/frn/index.html.

Changes Since the Preliminary Results

Based on our analysis of the comments received, and for the reasons explained in the Issues and Decision Memorandum, Commerce made certain changes to the preliminary weighted-average dumping margin for Gupta.

Final Determination of No Shipments

In the Preliminary Results, we preliminarily determined that Silbo had no shipments of subject merchandise during the POR. We received no comments from interested parties regarding that preliminary determination, nor did we receive any record evidence that would call into question our preliminary determination of no shipments. Accordingly, for these final results, we continue to determine that Silbo had no shipments of subject merchandise during the POR. Consistent with Commerce's practice,⁹ we intend to instruct U.S. Customs and Border Protection (CBP) to liquidate any existing entries of subject merchandise produced by Silbo, but exported by other parties, at the rate for the intermediate reseller, if available, or at the all-others rate.¹⁰

⁹ See, e.g., Certain Corrosion-Resistant Steel Products from Taiwan: Final Results of the Antidumping Duty Administrative Review and Final Determination of No Shipments; 2018-2019, 86 FR 28554 (May 27, 2021).

¹⁰ See Order, 82 FR at 40138.

Final Results of Administrative Review

For these final results, we determine that the following weighted-average dumping margins exist for the period August 1, 2018, through July 31, 2019:

Exporter/manufacturer | Weighted-average dumping margin (percent)
R.N. Gupta & Co., Ltd | 0.00
Norma (India) Limited/USK Exports Private Limited/Uma Shanker Khandelwal & Co./Bansidhar Chiranjilal ¹¹ | 0.00
Adinath International | 0.00
Allena Group | 0.00
Alloyed Steel | 0.00
Bebitz Flanges Works Private Limited | 0.00
Bebitz U.S.A | 0.00
C.D. Industries | 0.00
CHW Forge Pvt. Ltd | 0.00
CHW Forge ¹² | 0.00
Citizen Metal Depot | 0.00
Corum Flange | 0.00
DN Forge Industries | 0.00
Echjay Forgings Limited | 0.00
Falcon Valves and Flanges Private Limited | 0.00
Heubach International | 0.00
Hindon Forge Pvt. Ltd | 0.00
Jai Auto Private Limited | 0.00
Kinnari Steel Corporation | 0.00
M F Rings and Bearing Races Ltd | 0.00
Mascot Metal Manufactures | 0.00
OM Exports | 0.00
Punjab Steel Works (PSW) | 0.00
R. D. Forge | 0.00
Raaj Sagar Steels | 0.00
Ravi Ratan Metal Industries | 0.00
Rolex Fittings India Pvt. Ltd | 0.00
Rollwell Forge Pvt. Ltd | 0.00
SHM (ShinHeung Machinery) | 0.00
Siddhagiri Metal & Tubes | 0.00
Sizer India | 0.00
Steel Shape India | 0.00
Sudhir Forgings Pvt. Ltd | 0.00
Tirupati Forge | 0.00
Umashanker Khandelwal Forging Limited | 0.00

Rate for Non-Selected Respondents

For the companies that were not selected for individual review, we assigned a rate based on the rates for the respondents that were selected for individual examination.¹³ Consistent with the U.S. Court of Appeals for the Federal Circuit's decision in Albemarle, we are applying to the 33 companies not selected for individual examination the zero percent rates calculated for the mandatory respondents, Gupta and the Norma Group.¹⁴ These are the only rates determined in this review for individual respondents and, thus, should be applied to the 33 firms not selected for individual examination under section 735(c)(5)(B) of the Act.

¹¹ In the preliminary determination of sales at less-than-fair value (LTFV) investigation, Commerce determined that Norma (India), Limited, USK Exports Private Limited, Uma Shanker Khandelwal & Co., and Bansidhar Chiranjilal) were a single entity (collectively “Norma Group”). See Finished Carbon Steel Flanges from India: Preliminary Determination of Sales at Less Than Fair Value and Postponement of Final Determination, 82 FR 9719 (February 8, 2017), and accompanying PDM at 4-5; unchanged in Finished Carbon Steel Flanges from India: Final Determination of Sales at Less Than Fair Value, 82 FR 29483 (June 29, 2017). In this administrative review, Norma Group has presented evidence that the factual basis on which Commerce made its prior determination has not changed. See Norma Group's July 23, 2020 Supplemental Questionnaire Response at 2-9. Therefore, in this administrative review, Commerce continues to collapse these four entities and treat them as a single entity.

¹² The name of this company was incorrected spelled “CHQ Forge Pvt. Ltd.” in the Preliminary Results. See Initiation Notice. We have corrected the spelling of this company's name for purposes of these final results.

¹³ See section 735(c)(5)(A) of the Act.

¹⁴ See Albemarle Corp. v. United States, 821 F.3d 1345 (Fed. Cir. 2016) (Albemarle).

Disclosure

Commerce intends to disclose the calculations performed for these final results to parties in this proceeding within five days of the date of publication of this notice in the Federal Register, in accordance with 19 CFR 351.224(b).

Assessment Rates

Upon completion of this administrative review, Commerce shall determine and CBP shall assess antidumping duties on all appropriate entries. Because the weighted-average dumping margins of Gupta, the Norma Group, and the 33 firms not selected for individual examination have been determined to be zero percent within the meaning of 19 CFR 351.106(c), we will instruct CBP to liquidate the appropriate entries without regard to antidumping duties. In accordance with Commerce's practice, for entries of subject merchandise during the POR for which Gupta and the Norma Group did not know that the merchandise was destined for the United States, we will instruct CBP to liquidate such entries at the all-others rate if there is no company-specific rate for the intermediate company(ies) involved in the transaction.¹⁵

¹⁵ See Antidumping and Countervailing Duty Proceedings: Assessment of Antidumping Duties, 68 FR 23954 (May 6, 2003).

Consistent with its recent notice,¹⁶ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁶ See Notice of Discontinuation of Policy to Issue Liquidation Instructions After 15 Days in Applicable Antidumping and Countervailing Duly Administrative Proceedings, 86 FR 3995 (January 15, 2021).

Cash Deposit Requirements

The following cash deposit requirements will be effective for all shipments of subject merchandise entered, or withdrawn from warehouse, for consumption on or after the publication date of the final results of this administrative review, as provided by section 751(a)(2)(C) of the Act: (1) The cash deposit rates for the reviewed companies will be the rates established in the final results of this administrative review; (2) for merchandise exported by producers or exporters not covered in this administrative review but covered in a prior segment of the proceeding, the cash deposit rate will continue to be the company-specific rate published for the most recent period; (3) if the exporter is not a firm covered in this review, a prior review, or the original LTFV investigation, but the producer is, the cash deposit rate will be the rate established for the most recent segment of this proceeding for the producer of the subject merchandise; (4) the cash deposit rate for all other producers or exporters will continue to be 8.91 percent,¹⁷ the all-others rate established in the LTFV investigation. These cash deposit requirements, when imposed, shall remain in effect until further notice.

¹⁷ In the Preliminary Results, Commerce inadvertently listed as the all-others rate the estimated weighted-average dumping margin from the antidumping duty order on carbon steel flanges from India. See Finished Carbon Steel Flanges from India: Final Determination of Sales at Less Than Fair Value, 82 FR 29483 (June 29, 2017); see also Order, 82 FR at 40136. We have revised our reference to the all-others rate to reflect the cash deposit rate, adjusted for subsidy offsets, as stated in the Order.

Notification to Importers

This notice serves as a final reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties occurred and the subsequent assessment of doubled antidumping duties.

Administrative Protective Order (APO)

This notice also serves as a reminder to parties subject to APO of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.213(h) and 351.221(b)(5).

Dated: June 17, 2021.
Christian Marsh,
Acting Assistant Secretary for Enforcement and Compliance.

Appendix—List of Topics Discussed in the Issues and Decision Memorandum

I. Summary

II. Background

III. Scope of the Order

IV. Changes from the Preliminary Results

V. Discussion of the Issues

Comment 1: Adjustments to Gupta's Costs

Comment 2: Gupta's Reported Freight Revenues

Comment 3: Constructed Value Profit and Selling Expense Rates for Norma Group

VI. Recommendation

[FR Doc. 2021-13409 Filed 6-23-21; 8:45 am]

BILLING CODE 3510-DS-P